FEDERAL DEPOSIT INSURANCE CORPORATION

Privacy Act of 1974, as Amended; Addition of a New System of Records

AGENCY: Federal Deposit Insurance Corporation.

ACTION: Proposed addition of a new system of records.

SUMMARY: The Federal Deposit Insurance Corporation (FDIC) is issuing public notice of its intent to add a new category of records to its Privacy Act system of records. This action is necessary to meet the requirement of the Privacy Act of 1974, as amended, for the publication in the Federal Register of notices identifying the various systems of records maintained by the FDIC. The new system of records is named “Beneficial Ownership Filings (Securities Exchange Act).”

DATES: Comments on the addition of this new system of records, including comments concerning the proposed routine uses included in this notice, must be received by the FDIC on or before January 21, 2004. The amendments, revisions and consolidations that are the subject of this notice will become effective 45 days following publication in the Federal Register, unless a superseding notice to the contrary is published before that date.

ADDRESSES: You may submit comments by any of the following methods:

• Agency Web site: http://www.fdic.gov/regulations/laws/federal/propose.html. Follow instructions for submitting comments on this Web site.

• Email: comments@fdic.gov. Include “Beneficial Ownership Filings (Securities Exchange Act)” in the subject line.

• Mail: Fredrick L. Fisch, Supervisory Counsel, Attention: Comments, FDIC, 550 17th Street, NW., Washington, DC 20429.

Instructions: All submissions should refer to “Beneficial Ownership Filings (Securities Exchange Act)”. Comments may be posted without change to the FDIC internet site at http://www.fdic.gov/regulations/laws/federal/propose.html, including any personal information provided. Comments may also be inspected and photocopied in the FDIC Public Information Center, Room 100, 801 17th Street NW., Washington, DC 20434, between 9 a.m. and 4:30 p.m. on business days.

FOR FURTHER INFORMATION CONTACT: Fredrick L. Fisch, Supervisory Counsel, FOIA/Privacy Act Group, FDIC, 550 17th Street NW., Washington, DC 20429, (202) 736-0526.

SUPPLEMENTARY INFORMATION: Section 16 of the Securities Exchange Act of 1934 (“Exchange Act”) requires that insiders of FDIC-insured depository institutions with a class of securities registered under section 12 of the Exchange Act file reports regarding their beneficial ownership of securities. In general, under section 16, an “insider” is a director, officer or beneficial owner of more than 10% of an issuer's equity securities. Under section 12(i) of the Exchange Act, (15 U.S.C. 78l), the FDIC and the other Federal banking agencies are authorized to enforce all provisions of section 16 of the Exchange Act that are applicable to securities issued by FDIC-insured depository institutions. Historically, these reports have been filed on paper. Pursuant to section 403 of the Sarbanes-Oxley Act of 2002 (“Sarbanes-Oxley”), which amended section 16 of the Exchange Act, the FDIC has established an electronic filing system on its public Internet website to receive beneficial ownership filings from filers and to display them to the public. The FDIC's public Internet website permits the electronic search and retrieval of these reports. The search can be by date, or by name or location of the related financial institution. The FDIC intends to upgrade the search capability in the near future to allow for a search by name of a reporting person. In addition to requiring the electronic filing and display of these reports, section 403 of Sarbanes-Oxley accelerated the time for making certain beneficial ownership filings, and establishes the time period in which they must be made accessible to the public.

During a transitional period, beneficial ownership reports will continue to be filed in paper form. This provision for paper filing will be phased out, except for limited “hardship” exceptions. Except where indicated, this notice describes the system as it will exist when paper filing, except for “hardship” paper filing, is eliminated. There are three types of electronically filed forms accessible through the Beneficial Ownership Filings system on the FDIC's public Internet Web site. They are titled: “Initial Statement of Beneficial Ownership of Securities,” “Statement of Changes in Beneficial Ownership of Securities” and “Annual Statement of Beneficial Ownership of Securities.”

Comments: FDIC will consider comments received within 30 days of the publication of this Notice. A revised notice of changes made in response to comments will be forthcoming, if applicable.

30—64—0025

SYSTEM NAME:

Beneficial Ownership Filings (Securities Exchange Act).

SECURITY CLASSIFICATION:

None.

SYSTEM LOCATION:

The records are stored at the Accounting & Securities Disclosure Section, Division of Supervision and Consumer Protection, Federal Deposit Insurance Corporation, 550 17th Street NW., Washington, DC 20429.

CATEGORIES OF INDIVIDUALS COVERED BY THE SYSTEM:

(1) Any director or officer of an FDIC-insured depository institution with a class of equity securities registered pursuant to section 12 of the Securities Exchange Act of 1934, and (2) Any person who is directly or indirectly the beneficial owner of greater than 10% of a class of equity securities issued by an FDIC-insured depository institution that are registered under section 12 of the Securities Exchange Act of 1934; including any trust, trustee, beneficiary or settlor required to report pursuant to Securities and Exchange Commission Rule 16a-8.

CATEGORIES OF RECORDS IN THE SYSTEM:

Reporting persons submit electronically or on paper reports on any of the following three forms: “Initial Statement of Beneficial Ownership of Securities,” “Statement of Changes in Beneficial Ownership of Securities” and “Annual Statement of Beneficial Ownership of Securities.” Reporting persons are required to use these forms to disclose ownership and transactional information relative to their beneficial ownership of securities of FDIC-insured depository institutions with securities registered under the Securities Exchange Act of 1934. Under section 403 of the Sarbanes-Oxley Act of 2002, these forms must be submitted in electronic form and must be made available to the public on a Federal agency's external Internet Web site. The forms require disclosure of the name of the financial institution, relationship of reporting person to the financial institution, reporting person's name and street address, date of form or amendment, and filer's signature and date. A description of the securities' terms and transactional information including transaction date, type of transaction, amount of securities acquired or disposed, price, aggregate amount of securities beneficially owned, and form and nature of beneficial ownership must also be disclosed on the forms.

AUTHORITY FOR MAINTENANCE OF THE SYSTEM:

Sections 12(i) and 16(a) of the Securities Exchange Act of 1934 (respectively, 15 U.S.C. 78l(i) and 78p(a)).

PURPOSES:

In accordance with section 16(a) of the Securities Exchange Act of 1934, as amended by section 403 of the Sarbanes-Oxley Act of 2002, this information is being made available to the public on the FDIC's external Internet website in order to facilitate the more efficient transmission, dissemination, analysis, storage and retrieval of insider ownership and transaction information in a manner that will benefit investors, filers and bank regulatory agencies.

ROUTINE USES OF RECORDS MAINTAINED IN THE SYSTEM, INCLUDING CATEGORIES OF USERS AND THE PURPOSES OF SUCH USES:

The information in this system of records is publicly accessible. Additionally, as routine uses subject to the Privacy Act of 1974, the FDIC may disclose information maintained in this system to:

(1) An appropriate governmental or self-regulatory organization when relevant and necessary to the organization's regulatory or supervisory responsibilities or if the information is relevant to a known or suspected violation of a law or licensing standard within that organization's jurisdiction;

(2) The Department of Justice, a court, an adjudicative body, a party in litigation, or a witness if the FDIC determines that the information is relevant and necessary to a proceeding in which the FDIC, any FDIC employee in his or her individual capacity represented by the Department of Justice or the FDIC, or the United States is a party or has an interest;

(3) A congressional office when the information is relevant to an inquiry made at the request of the individual about whom the record is maintained; or

(4) A contractor or agent who needs to have access to this system of records to perform an assigned activity.

POLICIES AND PRACTICES FOR STORING, RETRIEVING, ACCESSING, RETAINING AND DISPOSING OF RECORDS IN THE SYSTEM:

STORAGE:

Records are stored in electronic media or on paper format in file folders.

RETRIEVABILITY:

Electronically filed reports are indexed and retrieved by the name of the reporting party. Paper-filed reports are indexed by the name of the depository institution issuing the securities being reported, with sub-indexing by the filer's name.

SAFEGUARDS:

Access to the information in this electronic system of records is unrestricted. The filing and amendment of electronic records is restricted to authorized users who have been issued non-transferable user id's and passwords.

RETENTION AND DISPOSAL:

Electronic media and paper files will be retained for fifteen years from the date of filing and then will be deleted or destroyed in accordance with the FDIC's publicly available Records Retention Schedule.

SYSTEM MANAGER(S) AND ADDRESS:

Accounting & Securities Disclosure Section, Division of Supervision and Consumer Protection, Federal Deposit Insurance Corporation, 550 17th Street, NW., Washington, DC 20429.

NOTIFICATION PROCEDURE:

Individuals with access to the Internet may directly enter the interagency Beneficial Ownership Filings system in order to determine if they are named in this system of records as well as to obtain the records maintained in this system. Individuals may also do so by submitting their request in writing to the Accounting & Securities Disclosure Section, Room F-6043, Division of Supervision and Consumer Protection, Federal Deposit Insurance Corporation, 550 17th Street NW., Washington, DC 20429.

RECORDS ACCESS PROCEDURES:

Same as “Notification” above.

CONTESTING RECORD PROCEDURES:

The filer may directly amend information maintained in the interagency Beneficial Ownership Filings system by submitting an amended beneficial ownership filing. The original filing remains in the Beneficial Ownership Filings system and continues to be accessible through the FDIC's external Web site. In the alternative, pursuant to 12 CFR 310.7, individuals to whom the information pertains may submit requests for the amendment of records in writing to the Federal Deposit Insurance Corporation, FOIA/PA Group, 550 17th Street, NW., Washington, DC 20429. Under 12 CFR 310.8, such requests will be reviewed by the system manager of the system of records. Denials of requests for amendments may be appealed to the General Counsel of the FDIC as provided in 12 CFR 310.9.

RECORD SOURCE CATEGORIES:

Information originates from (1) any director or officer of an FDIC-insured depository institution with a class of equity securities registered pursuant to section 12 of the Securities Exchange Act of 1934; and (2) any beneficial owner of greater than 10% of an FDIC-insured depository institution with a class of equity securities registered under the Securities Exchange Act of 1934, including any trust, trustee, beneficiary or settlor required to report pursuant to SEC Rule 16a-8.

EXEMPTIONS CLAIMED FOR THE SYSTEM:

None.

By order of the Board of Directors.
Federal Deposit Insurance Corporation.
Dated at Washington, DC, this 2nd day of December 2003.
Robert E. Feldman,
Executive Secretary.

[FR Doc. 03-31402 Filed 12-19-03; 8:45 am]

BILLING CODE 6714-01-P